DEPARTMENT OF ENERGY

Federal Energy Regulatory Commission

[Project No: 2277-007]

Union Electric Company; Notice of Application for Amendment of License and Soliciting Comments, Motions To Intervene, and Protests

November 6, 2007.

Take notice that the following hydroelectric application has been filed with the Commission and is available for public inspection:

a. Type of Application: Amendment of license to delete certain non-jurisdictional transmission facilities from license.

b. Project No.: 2277-007.

c. Date Filed: October 12, 2007.

d. Applicant: Union Electric Company (doing business as AmerenUE).

e. Name of Project: Tom Sauk Pumped-Storage Project.

f. Location: The project is located on the East Fork of the Black River in Reynolds County, Missouri.

g. Pursuant to: Federal Power Act, 16 U.S.C. 791a-825r.

h. Applicant Contact: Mr. Thomas L. Hollenkamp, Manager Dam Safety & Hydro Engineering, AmerenUE, One Ameren Plaza, 1901 Chouteau Avenue, St. Louis, MO 63166-6149.

i. FERC Contact: Any questions on this notice should be addressed to Mr. Vedula Sarma at (202) 502-6190, or e-mail address: vedula.sarma@ferc.gov.

j. Deadline for filing comments and or motions: December 7, 2007.

All documents (original and eight copies) should be filed with: Secretary, Federal Energy Regulatory Commission, 888 First Street, NE., Washington, DC 20426.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Description of Request: Union Electric Company dba AmerenUE proposes to delete from license a 30-mile-long 138-kV transmission line extending from the switchyard at the Tom Sauk Pumped-Storage Project to the Rivermines Substation. According to AmerenUE the line is no longer a primary line for the project but functions as part of an integrated transmission system under the control of Midwest Independent System Operator and is used to transmit power from both project and non-project sources.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. E7-22289 Filed 11-14-07; 8:45 am]

BILLING CODE 6717-01-P